DEPARTMENT OF LABOR

Employment and Training Administration

Workforce Investment Act; Native American Employment and Training Allotments

AGENCY: Employment and Training Administration, Labor.

ACTION: Notice.

SUMMARY: This Notice announces the Workforce Investment Act (WIA) section 166 final allotments for both the Supplemental Youth Services (SYS) and the Comprehensive Services (CS) programs for Program Year (PY) 2004. These individual grantee allotments are based on formulas defined in the section 166 program regulations at 20 CFR 668.296(b) for the Comprehensive Services program and 20 CFR 668.440(a) for the Supplemental Youth Services program. The rationale for the formulas is the same as described in the Interim Final Rule and the Final Rule published in the Federal Register on April 15, 1999 at 64 FR 18683 and on August 11, 2000 at 65 FR 49373-49375, respectively, and has been in effect for prior years of section 166 funding under WIA. Barring any changes which may arise as the result of WIA reauthorization legislation, the criteria used in these funding formulas will remain in effect for the foreseeable future.

ADDRESSES: Submit any written comments on the formulas used to allot these funds to the Employment and Training Administration, Office of Financial and Administrative Management, Room N-4702, 200 Constitution Avenue, NW., Washington, DC 20210, Attention: Ms. Sherryl Bailey, (202) 693-2813 (voice), (202) 693-2859 (fax), e-mail: bailey.sherryl@dol.gov.

FOR FURTHER INFORMATION CONTACT: Mr. Greg Gross, Division of Indian and Native American Programs, Office of National Programs, (202) 693-3752 (voice) (this is not a toll-free number) or 1-800-877-8339 (TTY) or speech-to-speech at 1-877-877-8982 (these are toll-free numbers), (202) 693-3818 (fax), e-mail: gross.gregory@dol.gov.

SUPPLEMENTARY INFORMATION: The Department of Labor (DOL or Department) is announcing final WIA section 166 formula allotments for PY 2004 (July 1, 2004—June 30, 2005) for both the Supplemental Youth Services and Comprehensive Services programs. This document provides information on the amount of funds available during PY 2004 to section 166 grantees with a two-year Comprehensive Services plan as approved by the Grant Officer, Mr. Eric Luetkenhaus. These allotments are based on the funds appropriated in the Department of Labor Appropriations Act, 2004 (Division E, title I of the Consolidated Appropriations Act, 2004, Pub. L. 108-199). The attached table displays both the PY 2004 Supplemental Youth Services allotments and the PY 2004 Comprehensive Services allotments.

Supplemental Youth Services Allotments. Pursuant to WIA section 127(b)(1)(C)(i)(I), PY 2004 SYS funds are $14,925,890, which represents 1.5 percent of the total PY 2004 WIA youth activities funding level of $995,059,306. These funds are available and only allotted to those section 166 grantees (usually federally-recognized tribes or consortia thereof) serving certain areas in which Native American youth reside. These are areas on or near reservations, Native areas in the State of Alaska, tribal jurisdictional areas in Oklahoma, and Native Hawaiian youth in Hawaii. There are no set-asides or other deductions from the total amount listed above, nor are any funds held in reserve. The entire amount of $14,925,890 has been or will be awarded to the grantees listed in the accompanying table, of which $4,037,342 has been transferred to the Department of the Interior for those grantees participating in the demonstration under Pub. L. 102-477 (see explanation below).

Comprehensive Services Allotments. WIA section 174(a)(2)(A) authorizes not less than $55,000,000 to fund the section 166 Comprehensive Services program each program year. However, the rescissions contained in Pub. L. 108-199 reduced the total available amount for PY 2004 to $54,675,500. Of this amount, $540,000 was reserved for technical assistance and training purposes pursuant to the regulations at 20 CFR 668.296(e); $54,135,500 was to be allotted to the section 166 grantees. Of this amount, $7,936,653 was transferred to the Department of the Interior, Office of Self-Governance and Self-Determination, for grantees participating in the demonstration under Pub. L. 102-477, the Indian Employment, Training, and Related Services Demonstration Act of 1992, as amended. The tribes participating in the “477 program” are identified with an asterisk (*) in the following allotment table.

Use of 2000 Decennial Census Data. The 1990 Decennial Census data were used to calculate the PY 2004 funding formulas. The decision to postpone the implementation of 2000 Decennial Census data for a year (until PY 2005) was recommended by the Census Work Group of the Native American Employment and Training Council and approved as a formal recommendation to the Department by the entire Council in official session. This decision was based in part on the fact that respondents to the 2000 Census had the capability to indicate multiple races/ethnic groups on their forms, requiring that the Department make decisions concerning which data set to use to calculate future section 166 funding formulas. The Department invites comments from the public on this decision, as well as recommendations or suggestions on how to utilize the 2000 Census data in the WIA section 166 program.

Signed at Washington, DC, this 1st day of October, 2004.
Emily Stover DeRocco,
Assistant Secretary, Employment and Training Administration.

U.S. Department of Labor, Employment & Training Administration, WIA Title I Section 166 Grantees, PY 2004 Funding Levels
State | Grantee | SYS Total $14,925,890 | CS Total $54,135,500
1 1 AL | Inter-Tribal Council of Alabama | 0 | 231,198
2 1 AL | Poarch Band of Creek Indians | 4,815 | 91,507
3 2 AK | Aleutian/Pribilof Islands Association* | 28,085 | 25,336
4 2 AK | Ilisagvik College | 53,877 | 72,663
5 2 AK | Association of Village Council Presidents* | 222,615 | 430,101
6 2 AK | Bristol Bay Native Association* | 59,035 | 104,983
7 2 AK | Central Council of Tlingit and Haida* | 171,490 | 188,717
8 2 AK | Chugachmiut* | 18,685 | 17,863
9 2 AK | Copper River Native Association* | 6,649 | 20,959
10 2 AK | Cook Inlet Tribal Council* | 289,446 | 385,804
11 2 AK | Kawerak Incorporated* | 91,476 | 161,890
12 2 AK | Kenaitze Indian Tribe | 25,104 | 20,484
13 2 AK | Kodiak Area Native Association* | 33,358 | 27,509
14 2 AK | Maniilaq Association | 78,064 | 113,302
15 2 AK | Metlakatla Indian Community* | 16,048 | 19,483
16 2 AK | Orutsararmuit Native Council* | 42,070 | 45,649
17 2 AK | Tanana Chiefs Conference, Inc | 170,802 | 311,252
18 4 AZ | Affiliation of Arizona Indian Centers | 0 | 251,067
19 4 AZ | American Indian Association of Tucson | 0 | 264,367
20 4 AZ | Colorado River Indian Tribes | 36,912 | 66,594
21 4 AZ | Gila River Indian Community | 162,663 | 593,224
22 4 AZ | Hualapai Reservation and Trust lands | 10,202 | 38,338
23 4 AZ | Hopi Tribal Council | 113,944 | 281,584
24 4 AZ | Inter Tribal Council of Arizona, Inc | 39,204 | 97,894
25 4 AZ | Native Americans for Community Action | 0 | 178,654
26 4 AZ | Navajo Nation | 2,474,561 | 6,489,199
27 4 AZ | Pasqua Yaqui Tribe | 41,611 | 110,972
28 4 AZ | Phoenix Indian Center, Inc | 0 | 809,445
29 4 AZ | Salt River Pima-Maricopa Indian Community | 58,577 | 138,079
30 4 AZ | San Carlos Apache Tribe | 111,422 | 340,269
31 4 AZ | Tohono O'Odham Nation | 148,792 | 463,532
32 4 AZ | White Mountain Apache Tribe | 149,022 | 447,733
33 5 AR | American Indian Center of Arkansas, Inc | 0 | 545,118
34 6 CA | California Indian Manpower Consortium, Inc | 161,746 | 2,706,192
35 6 CA | Candelaria American Indian Council | 0 | 240,227
36 6 CA | Indian Human Resources Center, Inc | 0 | 310,181
37 6 CA | Northern CA Indian Development Council | 7,222 | 221,558
38 6 CA | Quechan Indian Tribe | 20,175 | 42,797
39 6 CA | Southern California Indian Center, Inc | 0 | 947,097
40 6 CA | Tule River Tribal Council | 13,641 | 93,388
41 6 CA | United Indian Nations, Inc | 0 | 501,822
42 6 CA | Ya-Ka-Ama Indian Education & Development | 0 | 82,109
43 8 CO | Denver Indian Center | 0 | 578,298
44 8 CO | Southern Ute Indian Tribe | 19,029 | 46,168
45 8 CO | Ute Mountain Ute Indian Tribe | 23,156 | 91,591
46 10 DE | Nanticoke Indian Association, Inc | 0 | 26,105
47 12 FL | Florida Governor's Council on Indian Affairs | 0 | 867,223
48 12 FL | Miccosukee Corporation | 4,815 | 69,664
49 12 FL | Seminole Tribe of Florida* | 24,646 | 78,431
50 15 HI | Alu Like, Inc | 2,153,706 | 1,680,225
51 16 ID | Nez Perce Tribe* | 33,587 | 72,650
52 16 ID | Shoshone-Bannock Tribes* | 44,363 | 224,642
53 18 IN | Indiana American Indian Manpower Council | 0 | 245,706
54 20 KS | Mid American All Indian Center, Inc | 0 | 151,460
55 20 KS | United Tribes of Kansas and S.E. Nebraska | 14,558 | 233,616
56 22 LA | Inter-Tribal Council of Louisiana, Inc | 3,439 | 605,578
57 23 ME | Penobscot Nation | 23,385 | 134,546
58 25 MA | Mashpee-Wampanoag Indian Tribal Council | 0 | 61,993
59 25 MA | North American Indian Center of Boston, Inc | 0 | 209,211
60 26 MI | Grand Traverse Band of Ottawa & Chippewa | 4,012 | 47,942
61 26 MI | Inter-Tribal Council of Michigan, Inc | 45,624 | 60,714
62 26 MI | MI Indian Employment & Training Services | 0 | 664,143
63 26 MI | North American Indian Association of Detroit | 0 | 247,494
64 26 MI | Potawatomi Indian Nation | 0 | 98,052
65 26 MI | Sault Ste. Marie Tribe of Chippewa Indians | 61,099 | 210,089
66 26 MI | Southeastern Michigan Indians Inc | 0 | 122,617
67 27 MN | American Indian OIC | 0 | 541,525
68 27 MN | Bois Forte R.B.C | 6,075 | 24,028
69 27 MN | Fond Du Lac R.B.C | 23,958 | 212,115
70 27 MN | Leech Lake R.B.C | 49,865 | 193,216
71 27 MN | Mille Lacs Band of Chippewa Indians* | 5,846 | 43,185
72 27 MN | Minneapolis American Indian Center | 0 | 399,650
73 27 MN | Red Lake Tribal Council* | 60,296 | 205,688
74 27 MN | White Earth R.B.C.* | 39,433 | 144,399
75 28 MS | Mississippi Band of Choctaw Indians | 65,455 | 259,376
76 29 MO | American Indian Council, Inc | 9,858 | 591,343
77 30 MT | Assiniboine & Sioux Tribes | 86,318 | 241,607
78 30 MT | Blackfeet Tribal Business Council | 98,125 | 318,592
79 30 MT | Chippewa Cree Tribe | 32,785 | 126,097
80 30 MT | Confederated Salish & Kootenai Tribes* | 92,279 | 251,527
81 30 MT | Crow Indian Tribe | 80,128 | 222,363
82 30 MT | Fort Belknap Indian Community* | 34,160 | 116,654
83 30 MT | Montana United Indian Association | 0 | 371,063
84 30 MT | Northern Cheyenne Tribe | 67,633 | 199,896
85 31 NE | Indian Center, Inc | 0 | 302,881
86 31 NE | Omaha Tribe of Nebraska | 28,085 | 91,682
87 31 NE | Winnebago Tribe* | 17,195 | 40,695
88 32 NV | Inter-Tribal Council of Nevada | 74,282 | 311,476
89 32 NV | Las Vegas Indian Center, Inc | 0 | 123,074
90 32 NV | Reno Sparks Indian Colony* | 8,827 | 11,514
91 32 NV | Shoshone-Paiute Tribes* | 13,527 | 112,046
92 34 NJ | Powhatan Renape Nation | 0 | 265,543
93 35 NM | Alamo Navajo School Board | 26,824 | 57,851
94 35 NM | Pueblo of Isleta | 38,516 | 62,296
95 35 NM | Eight Northern Indian Pueblo Council | 33,243 | 59,457
96 35 NM | Five Sandoval Indian Pueblos, Inc | 98,469 | 158,422
97 35 NM | Jicarilla Apache Tribe | 42,987 | 62,985
98 35 NM | Mescalero Apache Tribe | 39,204 | 112,428
99 35 NM | National Indian Youth Council | 0 | 1,173,839
100 35 NM | Pueblo of Acoma | 42,185 | 147,940
101 35 NM | Pueblo of Laguna* | 50,553 | 100,219
102 35 NM | Pueblo of Taos | 16,507 | 48,161
103 35 NM | Pueblo of Zuni* | 122,886 | 281,697
104 35 NM | Ramah Navajo School Board, Inc | 33,358 | 113,212
105 35 NM | Santa Clara Indian Pueblo | 19,029 | 31,023
106 35 NM | Santo Domingo Tribe | 52,043 | 70,414
107 36 NY | American Indian Community House, Inc | 8,368 | 569,061
108 36 NY | Native American Cultural Center, Inc | 13,068 | 188,741
109 36 NY | Nat. ;Am. Comm. Svcs of Erie & Niagara Ctys | 0 | 164,815
110 36 NY | St Regis Mohawk Tribe | 28,199 | 135,876
111 36 NY | Seneca Nation of Indians* | 51,126 | 200,626
112 37 NC | Cumberland County Assoc. for Indian People | 0 | 88,106
113 37 NC | Eastern Band of Cherokee Indians | 94,457 | 224,829
114 37 NC | Guilford Native American Association | 0 | 53,326
115 37 NC | Haliwa-Saponi Tribe, Inc | 0 | 70,909
116 37 NC | Lumbee Regional Development Association | 0 | 931,531
117 37 NC | Metrolina Native American Association | 0 | 56,566
118 37 NC | North Carolina Commission of Indian Affairs | 0 | 213,173
119 38 ND | Spirit Lake Sioux Tribe* | 46,541 | 136,473
120 38 ND | Standing Rock Sioux Tribe | 93,310 | 232,086
121 38 ND | Three Affiliated Tribes o/t Fort Berthold Res* | 50,209 | 179,020
122 38 ND | Turtle Mountain Band of Chippewa Indians | 112,683 | 368,811
123 38 ND | United Tribes Technical College | 0 | 179,388
124 39 OH | North America Indian Cultural Center | 0 | 483,988
125 40 OK | Absentee Shawnee Tribe of Oklahoma | 19,258 | 26,350
126 40 OK | Grantee to be determined | 12,495 | 29,551
127 40 OK | Cherokee Nation of Oklahoma* | 1,074,102 | 1,385,789
128 40 OK | Cheyenne-Arapaho Tribes | 111,995 | 223,399
129 40 OK | Chickasaw Nation of Oklahoma* | 376,452 | 502,889
130 40 OK | Choctaw Nation of Oklahoma | 500,713 | 729,332
131 40 OK | Citizen Band of Potawatomi Indians of OK* | 381,954 | 398,229
132 40 OK | Comanche Tribe of Oklahoma | 102,940 | 158,564
133 40 OK | Creek Nation of Oklahoma | 488,332 | 658,529
134 40 OK | Delaware Tribe of Oklahoma* | 14,788 | 22,692
135 40 OK | Four Tribes Consortium of Oklahoma | 36,568 | 102,241
136 40 OK | Inter-Tribal Council of N.E. Oklahoma | 58,921 | 83,113
137 40 OK | Kiowa Tribe of Oklahoma | 96,749 | 207,497
138 40 OK | Native American Resource Center | 265,717 | 340,132
139 40 OK | Osage Tribal Council* | 77,491 | 122,529
140 40 OK | Otoe-Missouria Tribe of Oklahoma | 23,843 | 41,657
141 40 OK | Pawnee Tribe of Oklahoma* | 29,575 | 44,123
142 40 OK | Ponca Tribe of Oklahoma | 54,450 | 101,605
143 40 OK | Seminole Nation of Oklahoma | 71,874 | 128,813
144 40 OK | Tonkawa Tribe of Oklahoma | 42,070 | 73,865
145 40 OK | United Urban Indian Council, Inc | 363,384 | 522,035
146 40 OK | Wyandotte Tribe of Oklahoma | 0 | 102,747
147 41 OR | Confed. Tribes of Siletz Indians of OR* | 21,895 | 519,747
148 41 OR | Confed. Tribes of the Umatilla Indian Res | 16,736 | 37,376
149 41 OR | Confederated Tribes of Warm Springs | 50,438 | 100,804
150 41 OR | Organization of Forgotten Americans | 0 | 359,808
151 42 PA | Council of Three Rivers | 0 | 852,588
152 44 RI | Rhode Island Indian Council | 0 | 212,032
153 45 SC | South Carolina Indian Development Council | 1,719 | 155,177
154 46 SD | Cheyenne River Sioux Tribe | 86,203 | 239,955
155 46 SD | Grantee to be determined | 17,539 | 44,898
156 46 SD | Oglala Sioux Tribe | 187,653 | 606,638
157 46 SD | Rosebud Sioux Tribe* | 186,162 | 469,982
158 46 SD | Sisseton-Wahpeton Sioux Tribe* | 47,572 | 156,436
159 46 SD | United Sioux Tribes Development Corp | 13,068 | 462,333
160 46 SD | Yankton Sioux Tribe | 40,924 | 97,637
161 48 TX | Alabama-Coushatta Indian Tribal Council | 9,514 | 595,856
162 48 TX | Dallas Inter-Tribal Center | 0 | 306,285
163 48 TX | Ysleta del Sur Pueblo | 5,044 | 363,313
164 49 UT | Indian Training & Education Center | 4,356 | 444,857
165 49 UT | Ute Indian Tribe | 40,350 | 110,786
166 50 VT | Abenaki Self-Help Assoc./NH Indian Council | 0 | 109,166
167 51 VA | Mattaponi Pamunkey Monacan Consortium | 0 | 210,400
168 53 WA | American Indian Community Center | 38,402 | 422,308
169 53 WA | Colville Confederated Tribes* | 59,953 | 162,829
170 53 WA | Confed. Tribes & Bands o/t Yakama Nation | 107,639 | 225,743
171 53 WA | Lummi Indian Business Council | 28,429 | 96,013
172 53 WA | Makah Tribal Council | 13,068 | 28,013
173 53 WA | Puyallup Tribe of Indians | 14,558 | 138,555
174 53 WA | Seattle Indian Center | 0 | 341,642
175 53 WA | The Tulalip Tribes | 14,558 | 26,808
176 53 WA | Western WA Indian Empl. & Trng. Program | 104,888 | 715,209
177 55 WI | Ho-Chunk Nation* | 11,578 | 183,759
178 55 WI | Lac Courte Oreilles Tribal Governing Board | 37,599 | 136,477
179 55 WI | Lac Du Flambeau Band of Chippewa | 23,500 | 74,014
180 55 WI | Menominee Indian Tribe of Wisconsin* | 49,063 | 141,839
181 55 WI | Spotted Eagle, Inc. (Milwaukee AAIMC) | 0 | 208,551
182 55 WI | Oneida Tribe of Indians of Wisconsin | 36,682 | 184,124
183 55 WI | Stockbridge-Munsee Indian Community* | 6,075 | 66,783
184 55 WI | Wisconsin Indian Consortium | 29,804 | 129,848
185 56 WY | Eastern Shoshone Tribe* | 26,251 | 131,267
186 56 WY | Northern Arapaho Business Council | 63,735 | 223,161

[FR Doc. 04-22681 Filed 10-7-04; 8:45 am]

BILLING CODE 4510-30-P